DEPARTMENT OF TRANSPORTATION

Federal Aviation Administration

Notice of Intent To Rule on Request To Change Land Use From Aeronautical to Non-Aeronautical for 1.405 Acres of Airport Land at Hancock County Bar Harbor Airport, Trenton, ME

AGENCY: Federal Aviation Administration (FAA), Department of Transportation (DOT).

ACTION: Request for public comments.

SUMMARY: Notice is being given that the FAA is considering a request from Hancock County to change land use from aeronautical to non-aeronautical for 1.405 acres for non-aeronautical revenue generation at Hancock County Bar Harbor Airport, Trenton, ME. The parcel is not required for existing or future aviation development and is currently undeveloped. As such, the land use change will not affect the airport's future development needs, but will increase the airport's revenue stream over the term of the lease. The land lease proceeds will be deposited in the airport's operation and maintenance account.

DATES: Comments must be received on or before January 17, 2023.

ADDRESSES: You may send comments using any of the following methods:

• Federal eRulemaking Portal: Go to https://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Authority: 49 U.S.C. 47107(h)(2).

Issued in Burlington, Massachusetts on December 2, 2022.
Julie Seltsam-Wilps,
Deputy Director, ANE-600.

[FR Doc. 2022-26617 Filed 12-14-22; 8:45 am]

BILLING CODE 4910-13-P